SOCIAL SECURITY ADMINISTRATION

Protocol to the Agreement Between the United States and the Netherlands on Social Security; Entry Into Force

AGENCY: Social Security Administration.

ACTION: Notice.

SUMMARY: The Commissioner of Social Security gives notice that on May 1, 2003, a protocol entered into force which amends the Social Security agreement between the United States and the Netherlands that has been in effect since November 1, 1990. The protocol, which was signed on August 30, 2001, was concluded pursuant to requirements in 42 U.S.C. 433.

The protocol updates and clarifies several provisions in the original U.S.-Netherlands Social Security agreement to take account of changes in Dutch law. Its primary purpose, however, is to permit payment of the Netherlands children's allowance while the qualified recipient or the child lives in or visits the United States.

Individuals who wish to obtain copies of the protocol and the revised agreement or want general information about the protocol's provisions may write to the Social Security Administration, Office of International Programs, Post Office Box 17741, Baltimore, Maryland 21235-7741. The Social Security Web site at http://www.socialsecurity.gov/international also includes the text of the revised agreement. Anyone who wants information about the Netherlands children's allowance should write to Sociale Verzekeringsbank, Postbus 576, 9700 AN Groningen, The Netherlands.

Dated: July 15, 2003.
Jo Anne B. Barnhart,
Commissioner of Social Security.

[FR Doc. 03-18559 Filed 7-21-03; 8:45 am]

BILLING CODE 4191-02-U